DEPARTMENT OF THE INTERIOR

Bureau of Land Management

[LLWO320000.17X.19900000.PO0000; OMB Control Number 1004-0169]

Agency Information Collection Activities; Use and Occupancy Under the Mining Laws

AGENCY: Bureau of Land Management, Interior.

ACTION: Notice of information collection; request for comment.

SUMMARY: In accordance with the Paperwork Reduction Act of 1995, we, the Bureau of Land Management (BLM), are proposing to renew an information collection with revisions.

DATES: Interested persons are invited to submit comments on or before January 16, 2018.

ADDRESSES: Send your comments on this information collection request (ICR) by mail to the U.S. Department of the Interior, Bureau of Land Management, 1849 C Street NW., Room 2134LM, Washington DC 20240, Attention: Jean Sonneman; or by email to Jean Sonneman at jesonnem@blm.gov. Please reference OMB Control Number 1004-0169 in the subject line of your comments.

FOR FURTHER INFORMATION CONTACT: To request additional information about this ICR, contact Adam Merrill by email at amerrill@blm.gov, or by telephone at 202-912-7044.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal-identifying information—may be made publicly available at any time. While you can ask the BLM in your comment to withhold your personal-identifying information from public review, we cannot guarantee that we will be able to do so.

Abstract: This information collection enables the BLM to regulate the use and occupancy of unpatented hardrock mining claims, and to take any action necessary to prevent unnecessary or undue degradation of public lands as a result of such use or occupancy. The BLM collects information from mining claimants who want to undertake the activities that are necessary in order to locate a mining claim or mill site.

Title of Collection: Use and Occupancy Under the Mining Laws.

OMB Control Number: 1004-0169.

Form Number: None.

Type of Review: Revision of a currently approved collection.

Respondents/Affected Public: Mining claimants.

Total Estimated Number of Annual Respondents: 70.

Total Estimated Number of Annual Responses: 70.

Estimated Completion Time per Response: 4 hours.

Total Estimated Number of Annual Burden Hours: 280.

Respondent's Obligation: Required to obtain or retain a benefit.

Frequency of Collection: Once.

Total Estimated Annual Nonhour Burden Cost: None.

An agency may not conduct or sponsor—and a person is not required to respond to—a collection of information unless it displays a currently valid OMB control number. The authority for this action is the Paperwork Reduction Act of 1995 (44 U.S.C. 3501 et seq.).

Jean Sonneman,
Information Collection Clearance Officer, Bureau of Land Management.

[FR Doc. 2017-24666 Filed 11-14-17; 8:45 am]

BILLING CODE 4310-84-P